DEPARTMENT OF JUSTICE

Notice of Lodging of Proposed Consent Decree Under the Comprehensive Environmental Response, Compensation, and Liability Act

On October 17, 2018, the Department of Justice lodged a Consent Decree agreed to with defendant Exxon Mobil Corporation (“ExxonMobil”) in the United States District Court for the Northern District of West Virginia. The Consent Decree resolves the United States' claims under Sections 106 and 107 of the Comprehensive Environmental Response, Compensation, and Liability Act (“CERCLA”), 42 U.S.C. 9606 and 9607, for the performance of response actions and for payment of response costs incurred in connection with the release of hazardous substances at the Sharon Steel Corp/Fairmont Coke Works Superfund Site, located in Fairmont, West Virginia. The Consent Decree also resolves related claims brought by the State of West Virginia, through the West Virginia Department of Environmental Protection. The Complaint filed concurrently with the Consent Decree alleges that ExxonMobil, through a predecessor company, owned and operated a production facility at the Site that processed coal to produce coke. The by-products produced from the coke-making process included coal tar, phenol, ammonium sulfate, benzene, toluene, and xylene. The production waste was disposed of in on-site landfills, sludge ponds, and waste piles. The proposed Consent Decree obligates Exxon to pay for all future EPA and WVDEP response cost, and reimburse $250,000 of the United States' past response costs. ExxonMobil will perform the work at the Site pursuant to the proposed Consent Decree.

The publication of this notice opens a period for public comment on the Consent Decree. Comments should be addressed to the Assistant Attorney General, Environment and Natural Resources Division, and should refer to United States of America, et al v. Exxon Mobil Corporation, Civil Action No. 1:18-cv-00195 (N.D. W.Va.), DOJ number 90-11-3-06663/2. All comments must be submitted no later than 30 days after the publication date of this notice. Comments may be submitted either by email or by mail:

To submit comments: | Send them to:
By email | pubcomment-ees.enrd@usdoj.gov.
By mail | Assistant Attorney General, U.S. DOJ—ENRD, P.O. Box 7611, Washington, DC 20044-7611.

Under Section 7003(d) of RCRA, 42 U.S.C. 6973(d), a commenter may request an opportunity for a public meeting in the affected area.

During the public comment period, the Consent Decree may be examined and downloaded at this Justice Department website: https://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $59.25 (25 cents per page reproduction cost) payable to the United States Treasury. For a paper copy without the exhibits and signature pages, the cost is $10.50.

Jeffrey Sands,
Assistant Section Chief, Environmental Enforcement Section, Environment and Natural Resources Division.

[FR Doc. 2018-23765 Filed 10-30-18; 8:45 am]

BILLING CODE 4410-15-P